DEPARTMENT OF ENERGY

Federal Energy Regulatory Commission

Combined Notice of Filings #2

November 1, 2005.

Take notice that the Commission received the following electric rate filings

Docket Numbers: ER03-1312-009.

Applicants: Midwest Independent Transmission System Operator, Inc.

Description: Midwest Independent Transmission System Operator, Inc's proposed revisions to Schedule 20 & Module A of Midwest ISO Access Transmission & Energy Markets Tariff, FERC Electric Tariff, Third Revised Volume No. 1.

Filed Date: 10/24/2005.

Accession Number: 20051026-0011.

Comment Date: 5 p.m. eastern time on Monday, November 14, 2005.

Docket Numbers: ER03-747-000; ER05-1397-001.

Applicants: American Ref-Fuel Company of Hempstead; Covanta Hempstead Company.

Description: American Ref-Fuel Co of Hempstead et al. submits a revised Notice of Succession that contains the correct tariff designation for the sheet that was previously submitted on 8/26/05.

Filed Date: 10/24/2005.

Accession Number: 20051026-0012.

Comment Date: 5 p.m. eastern time on Monday, November 14, 2005.

Docket Numbers: ER05-150-003.

Applicants: California Independent System Operator Corporation.

Description: The California Independent System Operator Corp submits its compliance filing to FERC's Order issued 9/23/05.

Filed Date: 10/21/2005.

Accession Number: 20051026-0096.

Comment Date: 5 p.m. eastern time on Monday, November 14, 2005.

Docket Numbers: ER05-1281-002.

Applicants: FPL Energy Duane Arnold, LLC.

Description: FPL Energy Duane Arnold LLC submits an amendment to its market-based rate tariff.

Filed Date: 10/24/2005.

Accession Number: 20051026-0119.

Comment Date: 5 p.m. eastern time on Friday, November 4, 2005.

Docket Numbers: ER05-1283-001.

Applicants: Participating Transmission Owners Administrative Committee.

Description: Participating Transmission Owners Administrative Committee on behalf of New England's Participating Transmission Owners, submits supporting materials to supplement its 7/29/05 informational filing.

Filed Date: 10/21/2005.

Accession Number: 20051026-0111.

Comment Date: 5 p.m. eastern time on Friday, November 11, 2005.

Docket Numbers: ER05-1349-001.

Applicants: Western Systems Power Pool.

Description: Western Systems Power Pool, Inc submits an erratum to its 8/16/05 submittal of Substitute Fourteenth Revised Sheet No. 94.

Filed Date: 10/24/2005.

Accession Number: 20051026-0010.

Comment Date: 5 p.m. eastern time on Monday, November 14, 2005.

Docket Numbers: ER05-855-000, -001, -002.

Applicants: Duke Electric transmission.

Description: Duke Electric Transmission's response to the deficiency letter issued 9/22/05 involving its Large Generator Interconnection Agreement with Power Ventures Group, LLC.

Filed Date: 10/24/2005.

Accession Number: 20051028-0123.

Comment Date: 5 p.m. eastern time on Monday, November 14, 2005.

Docket Numbers: ER05-1409-001.

Applicants: The United Illuminating Company.

Description: The United Illuminating Co submits information in support of the 8/30/05 rate filing re the Middletown-Norwalk Project.

Filed Date: 10/26/2005.

Accession Number: 20051028-0113.

Comment Date: 5 p.m. eastern time on Wednesday, November 10, 2005.

Docket Numbers: ER05-1489-001.

Applicants: Craven County Wood Energy Limited Partnership.

Description: Craven County Wood Energy Limited Partnership supplements its 9/16/05 application for order approving market-based rates.

Filed Date: 10/25/2005.

Accession Number: 20051028-0109.

Comment Date: 5 p.m. eastern time on Tuesday, November 15, 2005.

Docket Numbers: ER06-62-000; ER03-428-004.

Applicants: ConocoPhillips Company,

Description: ConocoPhillips Co submits Second Revised Sheet No. 1 et al. to its FERC Gas Tariff, FERC Electric Tariff No. 1 pursuant to section 205 of the Federal Power Act.

Filed Date: 10/21/2005.

Accession Number: 20051026-0137.

Comment Date: 5 p.m. eastern time on Monday, November 14, 2005.

Docket Numbers: ER06-63-000.

Applicants: Take Two, LLC.

Description: Take Two, LLC submits a Petition for Acceptance of Initial Rate Schedule FERC No. 1, Waivers and Blanket Authority.

Filed Date: 10/24/2005.

Accession Number: 20051026-0138.

Comment Date: 5 p.m. eastern time on Monday, November 14, 2005.

Docket Numbers: ER06-64-000.

Applicants: Golden State Water Company.

Description: Golden State Water Co submits notice of succession to notify FERC that, effective 10/1/05, the name of Southern California Water Co was changed to Golden State.

Filed Date: 10/24/2005.

Accession Number: 20051026-0139.

Comment Date: 5 p.m. eastern time on Monday, November 14, 2005.

Docket Numbers: ER06-65-000.

Applicants: Wisconsin Public Service Corporation.

Description: Wisconsin Public Service Corp submits Third Revised Sheet No. 227 to Second Revised Rate Schedule to FERC No. 51.

Filed Date: 10/25/2005.

Accession Number: 20051026-0123.

Comment Date: 5 p.m. eastern time on Tuesday, November 15, 2005.

Docket Numbers: ER06-66-000.

Applicants: El Paso Electric Company.

Description: El Paso Electric Co submits a Notice of Cancellation and a cancellation tariff sheet for the purpose of canceling its Utility Service Contract with Holloman Air Force Base, Alamogordo, New Mexico.

Filed Date: 10/25/2005.

Accession Number: 20051026-0122.

Comment Date: 5 p.m. eastern time on Tuesday, November 15, 2005.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6150 Filed 11-4-05; 8:45 am]

BILLING CODE 6717-01-P